DEPARTMENT OF THE INTERIOR

Bureau of Land Management

[LLNVS01000.L58530000.EQ0000.241A; MO# 4500130984]

Notice of Realty Action: Recreation and Public Purposes Act Classification: Nevada

AGENCY: Bureau of Land Management, Interior.

ACTION: Notice of realty action.

SUMMARY: The Bureau of Land Management (BLM) has examined these public lands in Clark County, Nevada, and has found them suitable for classification for lease or conveyance to Clark County School District under the provisions of the Recreation and Public Purposes (R&PP) Act, as amended; Sec. 7 of the Taylor Grazing Act; and Executive Order No. 6910. Clark County School District proposes to use the land to develop a middle school. The area described contains 30 acres in the southwest portion of the Las Vegas Valley, Clark County, Nevada.

DATES: Submit written comments regarding this classification (serialized N-96476) on or before September 9, 2019. Comments may be mailed or hand delivered to the BLM office address below, or faxed to 702-515-5010. The BLM will not consider comments received via telephone calls or email.

ADDRESSES: Mail written comments to the BLM Las Vegas Field Office, Assistant Field Manager, Division of Lands, 4701 North Torrey Pines Drive, Las Vegas, NV 89130. Detailed information including, but not limited to, a development and management plan and documentation relating to compliance with applicable environmental and cultural resource laws, is available for review during business hours, 8:00 a.m. to 4:30 p.m. Pacific Time, Monday through Friday, except during Federal holidays, at the BLM Las Vegas Field Office, 4701 N. Torrey Pines Drive, Las Vegas, Nevada 89130.

FOR FURTHER INFORMATION CONTACT: Sheryl May, Realty Specialist, by telephone at 702-515-5196. Persons who use a telecommunications device for the deaf may call the Federal Relay Service (FRS) at 1-800-877-8339 to leave a message or question for the above individual. The FRS is available 24 hours a day, 7 days a week. You will receive a reply during normal business hours.

SUPPLEMENTARY INFORMATION: Clark County School District proposes to use the land for development of a middle school. Clark County School District has not applied for more than the 6,400-acre limitation for recreation uses in a year, nor more than 640 acres for each of the programs involving public resources other than recreation. Clark County School District has submitted a statement in compliance with the regulations at 43 CFR 2741.4(b), describing a definitely proposed project for the use of these 30 acres. The lands for lease or conveyance under the R&PP Act are legally described as:

Mount Diablo Meridian, Nevada

T. 22 S, R. 60 E,

Sec. 34, W½NE¼SE¼NE¼, NW¼SE¼NE¼, SW¼SE¼NE¼, and W½SE¼SE¼NE¼.

The area described contains 30 acres.

The Clark County School District filed an application to develop a school consisting of five school buildings, sixth to eighth grade classrooms, and sixth, seventh, and eighth grade learning centers. There will be fine arts and technology centers, as well as a student's presentation center, areas for a botanical learning center, basketball courts, ball fields, bike racks, shaded rest areas, turf play area, playgrounds, and a tetherball court area. Additionally, there would be parking for the public, school staff, and school buses to pick up and drop off students, as well as a fire department access road.

Lease or conveyance of these public lands are consistent with the BLM Las Vegas Resource Management Plan dated October 5, 1998. The lands are not needed for any other Federal purposes.

All interested parties will receive a copy of this Notice once it is published in the Federal Register. Additionally, a copy of the Notice will be published in the newspaper of local circulation once a week for three consecutive weeks. The regulations at 43 CFR Subpart 2741 addressing requirements and procedures for conveyances under the R&PP Act do not require a public meeting.

Upon publication of this Notice in the Federal Register, the lands will be segregated from all other forms of appropriation under the public land laws, including locations under the mining laws, except for lease or conveyance under the R&PP Act and leasing under the mineral leasing laws.

The lease or conveyance of the land, when issued, will be subject to the following terms, conditions, and reservations:

1. A right-of-way thereon for ditches and canals constructed by the authority of the United States Act of August 30, 1890 (26 Stat. 391; 43 U.S.C. 945).

2. Provisions of the R&PP Act and to all applicable regulations of the Secretary of the Interior.

3. All mineral deposits in the land leased or patented, and the right to prospect for, mine, and remove such deposits from the same under applicable law and regulations as established by the Secretary of the Interior are reserved to the United States, together with all necessary access and exit rights.

4. Lease or conveyance of the parcel is subject to valid existing rights.

5. An appropriate indemnification clause protecting the United States from claims arising out of the lessee's/patentee's use, occupancy, or occupations on the leased/patented lands.

6. Any other reservations that the authorized officer determines appropriate to ensure public access and proper management of Federal lands and interests therein.

Classification Comments: Interested persons may submit comments involving the suitability of the land for development of a middle school. Comments on the classification are restricted to whether the land is physically suited for the proposal, whether the use will maximize the future use or uses of the land, whether the use is consistent with local planning and zoning, and if the use is consistent with State and Federal programs.

Application Comments: Interested persons may submit comments regarding the specific use in the application and plan of development and management, whether the BLM followed proper administrative procedures in reaching the decision, or any other factor not directly related to the suitability of the lands for a middle school.

Any adverse comments will be reviewed by the BLM Nevada State Director or other authorized official of the Department of the Interior, who may sustain, vacate, or modify this realty action. In the absence of any adverse comments, the classification will become effective on September 24, 2019. The lands will not be offered for conveyance until after the classification becomes effective.

Before including your address, phone number, email address, or other personal identifying information in any comment, be aware that your entire comment, including your personal identifying information, may be made publicly available at any time. While you can ask us in your comment to withhold your personal identifying information from public review, we cannot guarantee that we will be able to do so.

Authority: 43 CFR 2741.5.

Shonna Dooman,
Acting Field Manager, Las Vegas Field Office.

[FR Doc. 2019-15924 Filed 7-25-19; 8:45 am]

BILLING CODE 4310-HC-P